DEPARTMENT OF ENERGY

Federal Energy Regulatory Commission

Notice of Application Ready for Environmental Analysis and Soliciting Comments, Recommendations, Terms and Conditions, and Prescriptions

December 13, 2002.

Take notice that the following hydroelectric application has been filed with the Commission and is available for public inspection:

a. Type of Application: New Major License (5MW or More).

b. Project No.: P-2000-036.

c. Date Filed: October 31, 2001.

d. Applicant: Power Authority of the State of New York.

e. Name of Project: St. Lawrence-FDR Power Project.

f. Location: Located on the St. Lawrence River near Massena, in St. Lawrence County, New York. There are no Federal lands located within the project boundary.

g. Filed Pursuant to: Federal Power Act 16 U.S.C. 791(a)-825(r).

h. Applicant Contact: Mr. Joseph J. Seymour, Chairman and Chief Executive Officer, Power Authority of the State of New York, 30 South Pearl Street, Albany, NY 12207-3425, (518) 433-6751. Mr. John J. Suloway, Director, Licensing Division, Power Authority of the State of New York, 123 Main Street, White Plains, NY 10601-3170, (914) 287-3971.

i. FERC Contact: Ed Lee, (202) 502-6082 or E-Mail Ed.Lee@ferc.gov.

j. Deadline for filing comments, recommendations, terms and conditions, and prescriptions: 60 days from the issuance date of this notice.

All documents (original and eight copies) should be filed with: Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Pursuant to Order No. 619, the Federal Energy Regulatory Commission (FERC) now accepts certain “qualified documents” via the Internet in lieu of paper filing. “Qualified documents” may be submitted electronically only by accessing the E-Filing link at http://www.ferc.gov.

Comments received via e-mail are not placed in the public record.

“Qualified documents” that may by submitted electronically in lieu pf paper and the procedures for e-filing “qualified documents” are described in FERC's User Guide for Electronic Filing of Qualified Documents, which can be accessed via FERC's Web site http://www.ferc.gov/e-filing. For assistance with filing qualified documents electronically, you can contract FERC's Online Support at FERCOnlineSupport@ferc.gov or toll-free at (866) 208-3676, or for TTY, contact (202) 502-8659.

k. This application has been accepted for filing and is now ready for environmental analysis.

l. The existing St. Lawrence-FDR Power Project is part of the International St. Lawrence Power Project which spans the international portion of the St. Lawrence River and consists of two power developments: (1) The Robert H. Saunders Generating Station and (2) St. Lawrence-FDR Power Project. The Power Authority of the State of New York operates the St. Lawrence-FDR Power Project and the Ontario Power Generation operates the Robert H. Saunders Generating Station (located in Canada and not subject to the jurisdiction of the Commission).

The St. Lawrence-FDR Power Project facilities include (a) all or portions of four dams (Robert Moses Power Dam, Long Sault Dam, Massena Intake, and the U.S. portion of the Iroquois Dam), (b) generating facilities, (c) the U.S. portion of a reservoir (Lake St. Lawrence), (d) seven dikes, and (e) appurtenant facilities. The project has a total installed capacity of 912,000-kW and an average annual generation of about 6,650,000 megawatt hours. All generated power is utilized within the applicant's electric utility system.

m. A copy of the application is available for inspection and reproduction during normal business hours (8:30 a.m. to 5 p.m. Eastern time) at the Commission's Public Reference Room, located at 888 First Street, NE., Room 2-A, Washington, DC 20426, or by calling (202) 502-8371. In addition, the application may be viewed and/or printed via the internet through FERC's Home Page (http://www.ferc.gov). From FERC's Home Page on the internet, the application and other filings and issuances regarding this application are available in the Federal Energy Regulatory Records Information System (FERRIS). To access this information in FERRIS, for the St. Lawrence Hydroelectric Project license application, enter the application's docket number (i.e., P-2000) and sub-docket number (i.e., 036) where specified. User assistance is available for FERRIS and FERC's website, during normal business hours, from our Help line at (202) 502-8258 or the Public Reference Room at (202) 502-8371. A copy of the application is also available for inspection and reproduction from the applicant at the address in item h. above.

n. Individuals desiring to be included on the Commission's mailing list should so indicate by writing to the Secretary of the Commission.

o. Procedural schedule and final amendments: The application will be processed according to the following milestones, some of which may be combined to expedite processing:

Milestone activity | Date
Notice Application Ready For EA (REA) and Soliciting Comments And Recommendations | December 2002.
Notice Of The Availability Of The Draft NEPA document | April 2003.
Notice Of The Availability Of The Final NEPA document | July 2003.
Order issuing the Commission's Decision on the application | September 2003.

Final amendments to the application must be filed with the Commission no later than 45 days from the issuance date of the notice that the application is REA and soliciting comments and recommendations.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-32019 Filed 12-18-02; 8:45 am]

BILLING CODE 6717-01-P